COMMODITY FUTURES TRADING COMMISSION

Climate-Related Market Risk Subcommittee Under the Market Risk Advisory Committee; Correction

AGENCY: Commodity Futures Trading Commission.

ACTION: Notice; correction.

SUMMARY: The Commodity Futures Trading Commission published a document in the Federal Register of April 14, 2020, concerning a request for public comment on topics and issues being addressed by the Climate-Related Market Risk Subcommittee under the Market Risk Advisory Committee. The document contained an incorrect term in the DATES section. This document corrects that error.

FOR FURTHER INFORMATION CONTACT: David M. Gillers, MRAC Climate Subcommittee Alternate Designated Federal Officer and Chief of Staff to Commissioner Rostin Behnam at (202) 418-6026 or email: MRAC_Submissions@cftc.gov.

Correction

In the Federal Register of April 14, 2020, FR Doc. 2020-07860, on page 20678, in the third column, correct the sentence of the DATES caption to read:

The deadline for the submission of comments is May 14, 2020.

Dated: April 14, 2020.
Robert N. Sidman,
Deputy Secretary of the Commission.

[FR Doc. 2020-08243 Filed 4-17-20; 8:45 am]

BILLING CODE 6351-01-P